DEPARTMENT OF EDUCATION

[Docket ID ED-2013-OESE-0016]

Request for Information (RFI) to Gather Technical Expertise Pertaining to the Identification and Placement of Native American Students Who Are English Learners in Language Instruction Educational Programs

AGENCY: Office of Elementary and Secondary Education, U.S. Department of Education.

ACTION: Request for information; notice to reopen the public comment period.

SUMMARY: On March 4, 2013, we published in the Federal Register an RFI that established a May 3, 2013, deadline for the submission of written comments. We are reopening the public comment period to give interested parties additional time to submit written comments.

DATES: Written submissions must be received by the Department on or before August 2, 2013.

ADDRESSES: Submit your comments through the Federal eRulemaking Portal or via U.S. mail, commercial delivery, or hand delivery. We will not accept comments submitted by fax or by email or those submitted after the comment period. To ensure that we do not receive duplicate copies, please submit your comments only once. In addition, please include the Docket ID and the term “Identification of English Learner Native American Students response” at the top of your comments.

• Federal eRulemaking Portal: Go to www.regulations.gov to submit your comments electronically. Information on using Regulations.gov, including instructions for accessing agency documents, submitting comments, and viewing the docket, is available on the site under “Are you new to the site.”

• U.S. Mail, Commercial Delivery, or Hand Delivery: If you mail or deliver your comments about this RFI, address them to Supreet Anand, Office of Elementary and Secondary Education, Attention: Native American English Learner RFI, U.S. Department of Education, 400 Maryland Avenue SW., Room 3W106, Washington, DC 20202-6132.

• Privacy Note: The Department's policy is to make all comments received from members of the public available for public viewing in their entirety on the Federal eRulemaking Portal at www.regulations.gov. Therefore, commenters should be careful to include in their comments only information that they wish to make publicly available.

Submission of Proprietary Information: Given the subject matter, some comments may include proprietary information as it relates to confidential commercial information. The Freedom of Information Act defines “confidential commercial information” as information the disclosure of which could reasonably be expected to cause substantial competitive harm. You may wish to request that we not disclose what you regard as confidential commercial information.

To assist us in making a determination on your request, we encourage you to identify any specific information that you consider confidential commercial information. Please list the information by page and paragraph numbers.

While this RFI is seeking to gather information related to policies and practices, you should still make certain your comments do not include disclosures of personally identifiable information from students' education records in a manner that violates the Family Educational Rights and Privacy Act of 1974 (FERPA).

FOR FURTHER INFORMATION CONTACT: Supreet Anand, U.S. Department of Education, 400 Maryland Avenue SW., Room 3W106, Washington, DC 20202-6132 by phone at 202-401-9795.

If you use a telecommunications device for the deaf (TDD) or a text telephone (TTY), call the Federal Relay Service (FRS), toll free, at 1-(800) 877-8339.

SUPPLEMENTARY INFORMATION:

Background

On March 4, 2013, we published an RFI in the Federal Register (78 FR 14084) to collect information about practices used by local educational agencies (LEAs) receiving Title III of the Elementary and Secondary Education Act, as amended (ESEA) funds to accurately identify Native American students in grades K-12 as English learners and to appropriately place these students in language instruction educational programs (LIEPs). The deadline for written submissions during the initial comment period was May 3, 2013. We are reopening the comment period for written submissions in response to the RFI notice through August 2, 2013. We are reopening the comment period to maximize opportunities for State educational agencies, LEAs, schools, tribes, and other interested entities to identify and share practices for accurately identifying Native American students who are English learners.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at this site.

You may also access documents of the Department published in the Federal Register by using the article search feature at: www.federalregister.gov. Specifically, through the advanced search feature at this site, you can limit your search to documents published by the Department.

Dated: June 28, 2013.
Deborah S. Delisle,
Assistant Secretary for Elementary and Secondary Education.

[FR Doc. 2013-16026 Filed 7-2-13; 8:45 am]

BILLING CODE 4000-01-P